FEDERAL COMMUNICATIONS COMMISSION

[DA 02-1258]

Auction of Multichannel Video Distribution and Data Service Licenses Notice of Auction Scheduled for February 12, 2003

AGENCY: Federal Communications Commission.

ACTION: Notice.

SUMMARY: This document announces an auction of Multichannel Video Distribution and Data Service (“MVDDS”) licenses, which is scheduled to begin on February 12, 2003.

DATES: The auction of MVDDS licenses is scheduled to begin on February 12, 2003. The auction seminar is scheduled for December 11, 2002. The short-form application deadline is December 20, 2002. The upfront payment deadline is January 17, 2003. The mock auction is scheduled for February 7, 2003.

FOR FURTHER INFORMATION CONTACT: Auction questions: Brian Carter, (202) 418-0660 or e-mail bcarter@fcc.gov. Service rules questions: Jennifer Burton, (202) 418-0680 or e-mail jburton@fcc.gov. Media may contact Meribeth McCarrick at (202) 418-0654 for questions.

SUPPLEMENTARY INFORMATION: This is a summary of the Auction of Multichannel Video Distribution and Data Service Licenses Public Notice released May 24, 2002. The complete text of this document, including attachments, is available for public inspection and copying during regular business hours at the FCC Reference Information Center, Portals II, 445 12th Street, SW., Room CY-A257, Washington, DC, 20554. In addition, the complete text, including attachments, may be retrieved from the FCC's website at www.fcc.gov. The Auction of Multichannel Video Distribution and Data Service Licenses Public Notice may also be purchased from the Commission's duplicating contractor, Qualex International, Portals II, 445 12th Street, SW., Room CY-B402, Washington, DC, 20554, telephone 202-863-2893, facsimile 202-863-2898, or via e-mail qualexint@aol.com.

By this Public Notice, the Wireless Telecommunications Bureau announces an auction of MVDDS licenses to begin on February 12, 2003. This auction will include 354 Component Economic Area licenses for operation on frequencies 12.2-12.7 GHz. A preliminary list of licenses available for auction is included as Attachment A, of the Auction of Multichannel Video Distribution and Data Service Licenses Public Notice. Future public notices will seek comment on specific terms and conditions for this auction. The key dates are as follows:

Auction Seminar: December 11, 2002.

Short Form Deadline: December 20, 2002.

(FCC 175 Application).

Upfront Payment Deadline: January 17, 2003.

Mock Auction: February 7, 2003.

Auction Begins: February 12, 2003.

For further clarification, please refer to Amendment of Parts 2 and 25 of the Commission's Rules to Permit Operation of NGSO FSS Systems Co-Frequency with GSO and Terrestrial Systems in the Ku-Band Frequency Range; Amendment of the Commission's Rules to Authorize Subsidiary Terrestrial Use of the 12.2-12.7 GHz Band by Direct Broadcast Satellite Licensees and Their Affiliates; and Applications of Broadwave USA, PDC Broadband Corporation, and Satellite Receivers, Ltd. to Provide A Fixed Service in the 12.2-12.7 GHz Band, Memorandum Opinion and Order and Second Report and Order, FCC 02-116, ET Docket No. 98-206 (rel. May 23, 2002). See also Amendment of Part 1 of the Commission's Rules—Competitive Bidding Procedures, WT Docket No. 97-82, Order, Memorandum Opinion and Order and Notice of Proposed Rule Making, 62 FR 13570 (March 21, 1997); Amendment of Part 1 of the Commission's Rules—Competitive Bidding Procedures, Allocation of Spectrum Below 5 GHz Transferred from Federal Government Use, Third Report and Order and Second Further Notice of Proposed Rule Making, (modified by Erratum, DA 98-419 (rel. Mar. 2, 1998), 63 FR 770 (January 7, 1998); Amendment of Part 1 of the Commission's Rules—Competitive Bidding Procedures, Order on Reconsideration of the Third Report and Order, Fifth Report and Order, and Fourth Further Notice of Proposed Rule Making, 65 FR 5447 (October 29, 2001); Amendment of Part 1 of the Commission's Rules—Competitive Bidding Procedures, Seventh Report and Order, 66 FR 5447 (October 29, 2001); Amendment of Part 1 of the Commission's Rules—Competitive Bidding Procedures, Eighth Report and Order, 67 FR 16647 (April 8, 2002).

Federal Communications Commission.
Margaret Wiener,
Chief, Auctions and Industry Analysis Division, WTB.

[FR Doc. 02-17175 Filed 7-9-02; 8:45 am]

BILLING CODE 6712-01-P